CONSUMER PRODUCT SAFETY COMMISSION

Sunshine Act Meeting

TIME AND DATE: 10 a.m, Tuesday, October 16, 2001.

LOCATION: Room 420, East West Towers, 4330 East West Highway, Bethesda, Maryland.

STATUS: Open to the Public.

MATTER TO BE CONSIDERED: Bed Rails: The staff will brief the Commission on options for Commission action to address hazards associated with portable bed rails.

For a recorded message containing the latest agenda information, call (301) 504-0709.

CONTACT PERSON FOR ADDITIONAL INFORMATION: Todd A. Stevenson, Office of the Secretary, 4330 East West Highway, Bethesda, MD 20207 (301) 504-0800.

Dated: October 12, 2001.
Todd A. Stevenson,
Acting Secretary.

[FR Doc. 01-26170 Filed 10-12-01; 2:13 pm]

BILLING CODE 6355-01-M